LEGAL SERVICES CORPORATION

LSC Regulations Review

AGENCY: Legal Services Corporation.

ACTION: Final Report of the LSC Regulations Review Task Force—Notice of Availability.

SUMMARY: As part of its ongoing efforts to improve the administration of regulatory programs and requirements, Legal Services Corporation is providing notice of the availability of the Final Report of the LSC Regulations Review Task Force. The Final Report is intended to be used toward the development of a regulatory agenda for 2002 and beyond.

FOR FURTHER INFORMATION CONTACT: Mattie C. Condray, Senior Assistant General Counsel, Office of Legal Affairs, Legal Services Corporation, 750 First Street, NE, Washington, DC 20002-4250; 202/336-8817 (phone); 202/336-8952 (fax); mcondray@lsc.gov.

SUPPLEMENTARY INFORMATION: LSC is issuing this notice to advise the public of the availability of the LSC Regulations Review Task Force Final Report.

The Regulations Review Task Force was an internal LSC staff task force charged with conducting a comprehensive review of LSC's regulations to support the LSC Board of Directors' Operations & Regulations Committee in the development of a Regulatory Agenda. The members of the Task Force were Victor Fortuno, Vice President for Legal Affairs & General Counsel, Co-Chair; Randi Youells, Vice President for Programs, Co-Chair; John Eidleman, Program Counsel—Office of Program Performance; John Meyer, Acting Director—Office of Information Management; Bertrand Thomas, Program Counsel III—Office of Compliance and Enforcement and Mattie Condray, Senior Assistant General Counsel—Office of Legal Affairs. Laurie Tarantowicz, Assistant Inspector General and Legal Counsel, served as the OIG Liaison to the Task Force.

The Task Force conducted its work over the period of October, 2000, through January, 2002. The Final Report of the Task Force contains a review of LSC regulations to make sure that they properly implement current law and an analysis to determine whether any of LSC's regulations are confusing, unduly burdensome or pose interpretation or enforcement problems. The Final Report also suggest basic prioritization categories for action. The conclusions of the Task Force, as embodied in the Final Report, are endorsed by LSC senior management.

A full copy of the Final Report can be found on the LSC Web site at: http://www.lsc.gov/FOIA/other/FRrrtf02.pdf. Interested parties may also request a copy by contacting Mattie Condray at the addresses listed above.

Victor M. Fortuno,
General Counsel and Vice President for Legal Affairs.

[FR Doc. 02-3666 Filed 2-14-02; 8:45 am]

BILLING CODE 7050-01-P